ENVIRONMENTAL PROTECTION AGENCY

[OH-165-1; FRL-8294-7]

Adequacy Status of the Parkersburg, Steubenville-Weirton, Lima, Wheeling, and Canton, OH, Submitted 8-Hour Ozone Redesignation and Maintenance Plans for Transportation Conformity Purposes

AGENCY: Environmental Protection Agency (EPA).

ACTION: Notice of adequacy.

SUMMARY: In this action, EPA is notifying the public that EPA has found that the motor vehicle emissions budgets (MVEBs) for 8-hour ozone for five areas in the State of Ohio, submitted as part of the redesignation and maintenance plans for these areas, are adequate for conformity purposes. As a result of our finding, the Parkersburg (Washington County), Steubenville-Weirton (Jefferson County), Lima (Allen County), Wheeling (Belmont County), and Canton (Stark County) areas must use the MVEBs from the submitted 8-hour ozone redesignation and maintenance plans for future conformity determinations.

DATES: This finding is effective April 18, 2007.

FOR FURTHER INFORMATION CONTACT: Anthony Maietta, Life Scientist, Criteria Pollutant Section (AR-18J), Air Programs Branch, Air and Radiation Division, United States Environmental Protection Agency, Region 5, 77 West Jackson Boulevard, Chicago, Illinois 60604, (312) 353-8777, Maietta.anthony@epa.gov.

SUPPLEMENTARY INFORMATION: Throughout this document, whenever “we”, “us” or “our” is used, we mean EPA.

Background

Today's action is simply an announcement of findings that we have already made. On December 28, 2006, EPA Region 5 sent a letter to the Ohio Environmental Protection Agency (OEPA) stating that the 2009 and 2018 MVEBs in the Steubenville-Weirton area are adequate. EPA Region 5 sent letters to OEPA on January 22, 2007, stating that the 2009 and 2018 MVEBs in the Parkersburg, Lima, Wheeling, and Canton areas are adequate. Ohio submitted the budgets as part of the 8-hour ozone redesignation requests and maintenance plans for these areas. The submittals were announced on EPA's conformity website, and received no comments: http://www.epa.gov/otaq/stateresources/transconf/adequacy.htm, (once there, click on “What SIP submissions are currently under EPA adequacy review?”).

The 2009 and 2018 MVEBs, in tons per day, for volatile organic compounds (VOC) for these areas are as follows:

Area | 2009 | 2018
Parkersburg | 2.59 | 1.67
Steubenville-Weirton | 2.63 | 1.37
Lima | 5.08 | 2.89
Wheeling | 2.60 | 1.52
Canton | 10.02 | 5.37

The 2009 and 2018 MVEBs, in tons per day, for oxides of nitrogen (NOX) for these areas are as follows:

Area | 2009 | 2018
Parkersburg | 3.58 | 1.76
Steubenville-Weirton | 4.10 | 1.67
Lima | 8.28 | 3.47
Wheeling | 4.69 | 1.91
Canton | 18.03 | 7.08

Transportation conformity is required by section 176(c) of the Clean Air Act. EPA's conformity rule requires that transportation plans, programs, and projects conform to state air quality implementation plans and establishes the criteria and procedures for determining whether or not they do. Conformity to a State Implementation Plan (SIP) means that transportation activities will not produce new air quality violations, worsen existing violations, or delay timely attainment of the national ambient air quality standards.

The criteria by which we determine whether a SIP's motor vehicle emission budgets are adequate for conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

The finding and the response to comments are available at EPA's conformity Web site: heep://www.epa.gov/otaq/stateresources/transconf/adequacy.htm.

Authority: 42 U.S.C. 7401-7671 q.

Dated: March 21, 2007.
Gary Gulezian,
Acting Regional Administrator, Region 5.

[FR Doc. E7-6150 Filed 4-2-07; 8:45 am]

BILLING CODE 6560-50-P